DEPARTMENT OF ENERGY

Federal Energy Regulatory Commission

Combined Notice of Filings #1

Take notice that the Commission received the following exempt wholesale generator filings:

Docket Numbers: EG19-166-000.

Applicants: Rosewater Wind Farm LLC.

Description: Notice of Self-Certification of Exempt Wholesale Generator Status of Rosewater Wind Farm LLC.

Filed Date: 8/16/19.

Accession Number: 20190816-5019.

Comments Due: 5 p.m. ET 9/6/19.

Docket Numbers: EG19-167-000.

Applicants: Kaheawa Wind Power, LLC.

Description: Notice of Self-Certification of Exempt Wholesale Generator Status of Kaheawa Wind Power, LLC.

Filed Date: 8/16/19.

Accession Number: 20190816-5065.

Comments Due: 5 p.m. ET 9/6/19.

Take notice that the Commission received the following electric rate filings:

Docket Numbers: ER15-1883-006; ER10-1836-016; ER10-1841-015; ER10-1845-015; ER10-1846-011; ER10-1849-017; ER10-1851-009; ER10-1852-029; ER10-1855-011; ER10-1857-010; ER10-1887-017; ER10-1890-012; ER10-1897-015; ER10-1899-011; ER10-1905-015; ER10-1907-014; ER10-1918-015; ER10-1920-019; ER10-1925-015; ER10-1927-015; ER10-1928-019; ER10-1930-009; ER10-1931-010; ER10-1932-010; ER10-1935-010; ER10-1950-015; ER10-1952-017; ER10-1961-017; ER10-1962-012; ER10-1964-015; ER10-2005-015; ER10-2006-016; ER10-2551-012; ER11-2160-012; ER11-26-015; ER11-2642-012; ER11-3635-012; ER12-1228-019; ER12-2226-009; ER12-2227-017; ER12-569-018; ER13-1991-011; ER13-1992-011; ER13-2112-008; ER13-712-019; ER13-752-010; ER15-1418-006; ER15-1925-011; ER15-2101-006; ER15-2477-006; ER15-2582-004; ER15-2601-004; ER15-2676-010; ER16-1672-008; ER16-2190-007; ER16-2191-007; ER16-2275-007; ER16-2276-007; ER16-2453-008; ER16-632-004; ER16-90-006; ER16-91-006; ER17-2152-004; ER17-2340-003; ER18-1534-003; ER18-1771-005; ER18-1863-002; ER18-1952-005; ER18-1978-003; ER18-2118-003; ER18-2246-004; ER18-882-003; ER19-1003-002; ER19-1392-003; ER19-1393-002; ER19-1394-002; ER19-987-002/

Applicants: Adelanto Solar, LLC, Adelanto Solar II, LLC, Armadillo Flats Wind Project, LLC, Ashtabula Wind, LLC, Ashtabula Wind II, LLC, Ashtabula Wind III, LLC, Baldwin Wind, LLC, Blackwell Wind, LLC, Blythe Solar 110, LLC, Blythe Solar II, LLC, Breckinridge Wind Project, LLC, Brady Interconnection, LLC, Brady Wind, LLC, Brady Wind II, LLC, Butler Ridge Wind Energy Center, LLC, Carousel Wind Farm, LLC, Casa Mesa Wind, LLC, Cedar Bluff Wind, LLC, Chaves County Solar, LLC, Cimarron Wind Energy, LLC, Coolidge Solar I, LLC, Cottonwood Wind Project, LLC, Crystal Lake Wind Energy I, LLC, Crystal Lake Wind Energy I, LLC, Crystal Lake Wind III, LLC, Day County Wind, LLC, Desert Sunlight 250, LLC, Desert Sunlight 300, LLC, East Hampton Energy Storage Center, LLC, Elk City Renewables II, LLC, Elk City Wind, LLC, Endeavor Wind I, LLC, Endeavor Wind II, LLC, Energy Storage Holdings, LLC, Ensign Wind, LLC, ESI Vansycle Partners, L.P., Florida Power & Light Company, FPL Energy Burleigh County Wind, LLC, FPL Energy Cape, LLC, FPL Energy Cowboy Wind, LLC, FPL Energy Green Power Wind, LLC, FPL Energy Hancock County Wind, LLC, FPL Energy Illinois Wind, LLC, FPL Energy Montezuma Wind, LLC, FPL Energy Mower County, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C, FPL Energy Wyman, LLC, FPL Energy Wyman IV, LLC, Garden Wind, LLC, Genesis Solar, LLC, Golden Hills Interconnection, LLC, Golden Hills North Wind, LLC, Golden Hills Wind, LLC, Golden West Power Partners, LLC, Gray County Wind Energy, LLC, Green Mountain Storage, LLC, Gulf Power Company, LLC, Hatch Solar Energy Center I, LLC, Hawkeye Power Partners, LLC, Heartland Divide Wind Project, LLC, High Lonesome Mesa Wind, LLC, High Majestic Wind Energy Center, LLC, High Majestic Wind II, LLC, High Winds, LLC, Kingman Wind Energy I, LLC, Kingman Wind Energy II, LLC, Lake Benton Power Partners II, LLC, Langdon Renewables, LLC, Limon Wind, LLC

Description: Notice of Change in Status of the NextEra MBR Sellers (Part 1).

Filed Date: 8/15/19.

Accession Number: 20190815-5219.

Comments Due: 5 p.m. ET 9/5/19.

Docket Numbers: ER19-2619-000.

Applicants: Midcontinent Independent System Operator, Inc.

Description: § 205(d) Rate Filing: 2019-08-15_Revisions to Fast Automatic Generation Control Signals to be effective 10/15/2019.

Filed Date: 8/15/19.

Accession Number: 20190815-5182.

Comments Due: 5 p.m. ET 9/5/19.

Docket Numbers: ER19-2620-000.

Applicants: Idaho Power Company.

Description: Idaho Power Company submits Average System Cost Filing for Sales of Electric Power to the Bonneville Power Administration, FY 2020-2021.

Filed Date: 8/15/19.

Accession Number: 20190815-5209.

Comments Due: 5 p.m. ET 9/5/19.

The filings are accessible in the Commission's eLibrary system by clicking on the links or querying the docket number.

Any person desiring to intervene or protest in any of the above proceedings must file in accordance with Rules 211 and 214 of the Commission's Regulations (18 CFR 385.211 and 85.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2019.
Nathaniel J. Davis, Sr.,
Deputy Secretary.

[FR Doc. 2019-18122 Filed 8-21-19; 8:45 am]

BILLING CODE 6717-01-P